DEPARTMENT OF TRANSPORTATION

Federal Aviation Administration

RTCA Special Committee 200: Integrated Modular Avionics (IMA)/EUROCAE WG-60

AGENCY: Federal Aviation Administration (FAA), DOT.

ACTION: Notice of RTCA Special Committee 200 meeting.

SUMMARY: The FAA is issuing this notice to advise the public of a meeting of RTCA Special Committee 200: Integrated Modular Avionics.

DATES: The meeting will be held on February 14-18, 2005 from 9 a.m. to 5 p.m.

ADDRESSES: The meeting will be held at Kuffner Sternwarte Vienna, Johann Staud-Strabe 10, 1160 Wein, Austria.

FOR FURTHER INFORMATION CONTACT: (1) RTCA Secretariat, 1828 L Street, NW., Suite 805, Washington, DC 20036-5133; telephone (202) 833-9339, fax (202) 833-9434; Web site http://www.rtca.org. (2) http://www.kuffner.ac.at/site/de/index.html; Martin Schwarz; telephone +43 1 585 3434 72; e-mail: martin.schwarz@tttech.com.

SUPPLEMENTARY INFORMATION: Pursuant to section 10(a)(2) of the Federal Advisory Committee Act (Pub. L. 92-463, 5 U.S.C., Appendix 2), notice is hereby given for a Special Committee 200 meeting. The agenda will include:

• February 14:

• Subgroup Meetings: Review Edit document, closing comment sheets.

• February 15:

• Subgroup Meetings: Edit document/prepare plenary presentation.

• February 16:

• Opening Session (Welcome, Introductory and Administrative Remarks, Approve Agenda, Review Summary of Previous Meeting).

• Review action items.

• Brief reports on related committees activities (ARINC653, WG 63).

• Editorial Team Report/Subgroup Reports.

• Target of the meeting.

• Subgroup Meetings: Final edit.

• February 17:

• Subgroup Meetings: Final edit/prepare plenary approval.

• February 18:

• Subgroup final reports/Plenary approval of the document.

• Near term schedule/Start of ballot process.

• Closing Session (Plans for next meeting, Review action items, Closing Remarks, Adjourn).

Attendance is open to the interested public but limited to space availiability. With the approval of the chairmen, members of the public may present oral statements at the meeting. Persons wishing to present statements or obtain information should contact the person listed in the FOR FURTHER INFORMATION CONTACT section. Members of the public may present a written statement to the committee at any time.

Issued in Washington, DC, January 21, 2005.
Natalie Ogletree,
FAA General Engineer, RTCA Advisory Committee.

[FR Doc. 05-2318 Filed 2-7-05; 8:45 am]

BILLING CODE 4910-13-M